DEPARTMENT OF AGRICULTURE

Rural Utilities Service

Oglethorpe Power Corporation: Proposed Biomass Power Plant

AGENCY: Rural Utilities Service, USDA.

ACTION: Notice of Availability of a Draft Environmental Impact Statement and Notice of Public Hearing.

SUMMARY: Notice is hereby given that the Rural Utilities Service (RUS), has prepared a Draft Environmental Impact Statement (EIS) to meet its responsibilities under the National Environmental Policy Act (NEPA) and 7 CFR part 1794 related to possible financial assistance to Oglethorpe Power Corporation (Oglethorpe) for the construction of a 100 megawatt (MW) biomass plant and related facilities (Proposal) in Warren County, Georgia.

The purpose of the Proposal is to provide a reliable, long-term supply of renewable and sustainable energy at a reasonable cost to meet part of the electric energy needs of Oglethorpe's members. Oglethorpe may request financial assistance in the future from the RUS for the Proposal.

DATES: Written comments on the Draft EIS must be received on or before May 31, 2011. RUS will conduct a public meeting May 5, 2011, from 6 to 8 p.m. at the Warren County Community Service Building, located at: 48 Warren Street, Warrenton, Georgia 30828. The first half hour of the meeting will be an open house followed by a formal public information and comment meeting with brief presentations on the Draft EIS. Members of the public will have an opportunity to ask questions and provide comments on the Draft EIS. A court reporter will transcribe verbal comments from the formal public comment portion of the meeting.

FOR FURTHER INFORMATION CONTACT: To obtain copies of the Draft EIS or for further information, contact: Stephanie Strength, Environmental Protection Specialist, USDA, Rural Utilities Service, 1400 Independence Avenue, SW., Room 2244, Stop 1571, Washington, DC 20250-1571, or e-mail stephanie.strength@wdc.usda.gov.

ADDRESSES: A copy of the Draft EIS may be viewed online at the following Web site: http://www.usda.gov/rus/water/ees/eis.htm and at the: Warren County Public Library, 10 Warren Street, Warrenton, Georgia 30828, Phone (706) 465-2656.

SUPPLEMENTARY INFORMATION: Oglethorpe proposes to own, operate, and maintain the Proposal in Warren County, Georgia. The purpose of the Proposal is to provide a reliable, long-term supply of renewable and sustainable energy at a reasonable cost to meet part of the electric energy needs of Oglethorpe's members. Three alternatives are evaluated in detail in the Draft EIS; the no action alternative, and the proposed action at two different locations: Warren County (the Proposal) and Appling County (the Alternate). Alternatives were evaluated in terms of cost-effectiveness, technical feasibility, and environmental factors. The Draft EIS evaluated and eliminated from detailed consideration 8 alternatives for renewable generation, one other generation alternative, demand side management, three alternative sites, two alternatives for cooling, and two alternatives for water supply.

The Proposal would be constructed on an approximately 343-acre site located three-fourths mile east of the city limit of Warrenton. The tallest structure would be the stack, with a maximum estimated height of approximately 220 feet. The construction schedule of the Proposal is currently unknown.

A Notice of Intent to Prepare an EIS and Hold a Scoping Meeting was published in the Federal Register at 74 FR 30520, on June 26, 2009, and local newspapers. The scoping meeting for the EIS was held in the project area on July 9, 2009, and public comments were accepted from June 26, 2009, through July 27, 2009. RUS issued a Scoping Report in March 2010.

In accordance with Section 106 of the National Historic Preservation Act and its implementing regulation, “Protection of Historic Properties” (36 CFR part 800) and as part of its broad environmental review process, RUS must take into account the effect of the proposal on historic properties Pursuant to 36 CFR 800.2(d)(3), RUS is using its procedures for public involvement under NEPA to meet its' responsibilities to solicit and consider the views of the public during Section 106 review. Any party wishing to participate more directly with RUS as a “consulting party” in Section 106 review may submit a written request to the RUS contact provided in this notice. Questions and comments should be sent to RUS at the mailing or e-mail addresses provided in this Notice. RUS will accept comments on the Draft EIS in writing by May 31, 2011 to ensure that they are considered in the Final EIS. Once completed, a public notice announcing the availability of the final EIS will be published in the Federal Register and local newspapers. Subsequent to a 30-day public review period of the Final EIS and resolution of any additional comments, RUS will then issue and publish a Record of Decision.

Because the Proposal may involve impacts to wetlands, this Notice of Availability also serves as a notice of potential impacts to wetlands. In accordance with Executive Order 11990, the Draft EIS includes a wetland assessment and statement of no practicable alternatives to proposed impacts to wetlands.

Any final action by RUS related to the proposal will be subject to, and contingent upon, compliance with all relevant Federal, State and local environmental laws and regulations, and completion of the environmental review requirements as promulgated in RUS' Environmental Policies and Procedures (7 CFR part 1794).

Nivin Elgohary,
Acting Assistant Administrator, Electric Program, Rural Utilities Service.

[FR Doc. 2011-8779 Filed 4-12-11; 8:45 am]

BILLING CODE P